DEPARTMENT OF THE INTERIOR

Fish and Wildlife Service

[FWS-R4-ES-2014-N028; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by March 20, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: Karen Marlowe, 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 237537-1

Applicant: Peter Raven, Missouri Botanical Gardens, St. Louis, Missouri

The applicant requests renewal and amendment of their current permit to add authorization to remove and reduce to possession (through seed and leaf material collection) 17 species of endangered and threatened plant species from lands under Federal jurisdiction in Alabama, Tennessee, Kentucky, West Virginia, Illinois, Missouri, Virginia, and Mississippi for ex situ conservation, research, propagation, and educational display.

Permit Application Number: TE 146761-3

Applicant: Pedro Ramos, Big Cypress National Preserve, National Park Service, Ochopee, Florida

The applicant requests renewal of their current permit to take (capture, harass, chemically immobilize, hold temporarily, transport, radio collar, take tissue and blood samples, provide medical treatment for injury or illness including appropriate vaccinations, subsequently release, and euthanize) the Florida panther (Felis concolor coryi) for the purpose of maintaining a healthy panther population, to assess the habitat potential to support panthers, to monitor the effects of the genetic restoration project, and to evaluate the accuracy of the global positioning system radio-collars and aerial telemetry throughout the species' range.

Permit Application Number: TE 092945-3

Applicant: James Lindsay, Florida Power and Light Company, Juno Beach, Florida

The applicant requests renewal and amendment of their permit to authorize the capture of non-breeding American crocodiles (Crocodylus acutus) less than 2 meters in total length during the nesting season for assessment of survival and growth rates and to authorize all permitted activities (capture, examine, weigh, sex, collect tissue samples, mark, radio-tag, radio track, relocate, and release) for American crocodiles in the Florida Power and Light Everglades Mitigation Bank, in addition to the previously permitted location of the Florida Power and Light Turkey Point Power Plant Cooling Canals, for purposes of conducting monitoring surveys and documenting nesting activity and utilization of the cooling canal system in Dade County, Florida.

Permit Application Number: TE 54578B-0

Applicant: Mary Frazer, Raleigh, North Carolina

The applicant requests authorization to take (enter hibernacula or maternity roost caves, salvage dead bats, capture with mist nets or harp traps, handle, identify, collect hair and tissue samples, band, radio-tag, pit-tag, light-tag, wing-punch, and selectively euthanize for white-nose syndrome testing) Virginia big-eared bats (Corynorhinus (=plecotus) townsendii virginianus), Indiana bats (Myotis sodalis), gray bats (Myotis grisescens), and northern long-eared bats (Myotis septentrionalis) for the purposes of conducting presence/absence surveys, studies to document habitat use, determining presence of white nose syndrome, and population monitoring in North Carolina, South Carolina, Tennessee, and Georgia.

Permit Application Number: TE 002412-6

Applicant: Cecil Comalander, Milliken Forestry Company Inc., Columbia, South Carolina

The applicant requests renewal of his current permit to take (capture, band, install artificial cavities and restrictors, and translocate) red-cockaded woodpeckers (Picoides borealis) for the purposes of monitoring and managing populations in South Carolina.

Permit Application Number: TE 54891B-0

Applicant: Luke Dodd, Eastern Kentucky University, Richmond, Kentucky

The applicant requests authorization to take (capture with mist nets or harp traps, handle, band, radio-tag) Indiana bats (Myotis sodalis), gray bats (Myotis grisescens), and northern long-eared bats (Myotis septentrionalis) for the purposes of conducting presence/absence surveys, studies to document habitat use, and population monitoring in Kentucky.

Permit Application Number: TE 834056-5

Applicant: Kellie Keys, North Florida Wildlife LLC, Crawfordville, Florida

The applicant requests renewal of the current permit to take (capture, band, release, construct and monitor nest cavities and restrictors) red-cockaded woodpeckers (Picoides borealis) for the purposes of monitoring and managing populations in Arkansas, Florida, Georgia, South Carolina, North Carolina, Alabama, Louisiana, Mississippi, Virginia, Oklahoma, and Texas.

Permit Application Number: TE 079972-3

Applicant: Eric Baka, Louisiana Department of Wildlife and Fisheries, Pineville, Louisiana

The applicant requests renewal of his current permit to take (capture, band, release, install drilled and insert cavities, install cavity restrictors, and translocate) red-cockaded woodpeckers (Picoides borealis) for the purposes of banding juveniles and adults, and monitoring populations and nest cavities in Louisiana.

Permit Application Number: TE 096554-3

Applicant: James Robinson, Biological Systems Consultants Inc., Lexington, Kentucky

The applicant requests renewal of his current permit to take (capture, identify, and release) blackside dace (Phoxinus cumberlandensis) and take (capture, sex, weigh, measure, band, and radio-tag) Indiana bat (Myotis sodalis), gray bat (Myotis grisescens), and Virginia big-eared bat (Corynorhinus townsendii virginianus) for the purpose of conducting presence/absence surveys in Tennessee and Kentucky.

Permit Application Number: TE 55292B-0

Applicant: Robert Fletcher, University of Florida, Gainesville, Florida

The applicant requests authorization to take (capture, band, mark, radio-tag, measure, collect feather samples, release, and monitor) everglade snail kites (Rostrhamus sociabilis plumbeus) for demographic and movement studies in the State of Florida to enhance the survival of the species.

Permit Application Number: TE 55286B-0

Applicant: Hayden Mattingly, Tennessee Technical University, Cookeville, Tennessee

The applicant requests authorization to take (capture via seining, kick-seining, electrofishing, trapping, and/or hand-netting, and marking and fin-clipping) pygmy madtoms (Noturus stanauli) in the Clinch and Duck River drainages in the state of Tennessee for the purposes of conducting presence/absence surveys and developing DNA detection techniques.

Permit Application Number: TE 48833A-1

Applicant: Brian Carver, Tennessee Technical University, Cookeville, Tennessee

The applicant requests an amendment to the current permit to take (enter hibernacula or maternity roost caves, salvage dead bats, capture with mist nets or harp traps, handle, identify, collect hair and tissue samples, band, radio-tag, pit-tag, light-tag, and wing-punch) northern long eared bats (Myotis septentrionalis) throughout the range of the species.

Permit Application Number: TE 100626-9

Applicant: Jeff Selby, AST Environmental, Decatur, Alabama

The applicant requests an amendment to the current permit to take (capture, identify, release) the following species: Diamond tryonia (Pseudotryonia adamantina), Gonzalez springsnail (Tryonia circumstriata), Pecos assiminea snail (Assiminea pecos), phantom springsnail (Tryonia cheatumi), San Bernadino springsnail (Pyrgulopsis bernardina), three forks springsnail (Pyrgulopsis trivialis), Neosho mucket (Lampsilis rafinesqueana), rabbitsfoot (Quadrula cylindrica cylindrica), scaleshell mussel (Leptodea leptodon), and winged mapleleaf (Quadrula fragosa) for the purpose of conducting presence/absence surveys throughout the species' ranges.

Permit Application Number: TE 94704A-1

Applicant: Dorothy C. Brown, Woodstock, Georgia

The applicant requests an amendment to her current permit to take (enter hibernacula or maternity roost caves, salvage dead bats, capture with mist nets or harp traps, handle, identify, collect hair samples, band, radio-tag, light-tag, wing punch, and selectively euthanize for white nose syndrome testing) the Virginia big-eared bat (Corynorhinus (=plecotus) townsendii virginianus) in West Virginia, Virginia, North Carolina, Kentucky, and Tennessee, and to add States throughout the range of the Indiana bat (Myotis sodalis), gray bat (Myotis grisescens), and northern long-eared bat (Myotis septentrionalis) for the purposes of conducting presence/absence surveys and white-nose syndrome surveillance and research-related activities.

Permit Application Number: TE 38906B-0

Applicant: Ian Lundgren, National Park Service, Christiansted, Virgin Islands

The applicant requests authorization to take (relocate nests; excavate hatched nests; collect tissue, blood, and carapace samples; and attach satellite, acoustic, flipper, and PIT tags) hawksbill sea turtles (Eretmochelys imbricata), green sea turtles (Chelonia mydas), leatherback sea turtles (Dermochelys coriacea), and loggerhead sea turtles (Caretta caretta) within Buck Island Reef National Monument boundaries, for inventory, monitoring, and research activities.

Permit Application Number: TE 14102A-1

Applicant: Carl Dick, Western Kentucky University, Bowling Green, Kentucky

The applicant requests an amendment to the current permit to take (capture with mist nets or harp traps, handle, identify, and collect ectoparasites) northern long-eared bats (Myotis septentrionalis) throughout the range of the species.

Permit Application Number: TE 56028B-0

Applicant: Terry Hopkins, Eagleville, Tennessee

The applicant requests authorization to take (enter hibernacula or maternity roost caves, capture with mist nets or harp traps, handle, and identify) Indiana bat (Myotis sodalis), gray bat (Myotis grisescens), and northern long-eared bat (Myotis septentrionalis) for purposes of conducting presence/absence surveys, documenting habitat use, and evaluating potential impacts of industrial, commercial, and military activities throughout the species' respective ranges.

Permit Application Number: TE 56430B-0

Applicant: Jonathan Hootman, Whitesburg, Kentucky

The applicant requests authorization to take (enter hibernacula, salvage dead bats, capture with mist nests or harp traps, handle, take measurements, collect hair samples and fecal material, fungal lift tape, swab, wing-punch, band, light-tag, radio-tag, pit-tag, and release) Indiana bat (Myotis sodalis) and northern long-eared bat (Myotis septentrionalis) for purposes of conducting presence/absence surveys, documenting habitat use, white nose detection and surveillance, and evaluating the effectiveness of acoustic identification methods throughout the species' respective ranges.

Dated: February 10, 2015.
Leopoldo Miranda,
Assistant Regional Director—Ecological Services, Southeast Region.

[FR Doc. 2015-03314 Filed 2-17-15; 8:45 am]

BILLING CODE 4310-55-P